NATIONAL CREDIT UNION ADMINISTRATION

Sunshine Act; Notice of Meeting

Time and Date: 10 a.m., Thursday, November 15, 2007.

Place: Board Room, 7th Floor, Room 7047, 1775 Duke Street, Alexandria, VA 22314-3428.

Status: Open.

Matters to be Considered:

1. Request from Shell New Orleans Federal Credit Union to Convert to a Community Charter.

2. NCUA's 2008 Annual Performance Budget.

3. NCUA's 2008/2009 Operating Budget.

4. NUCA's Overhead Transfer Rate.

5. NCUA's Operating Fee Scale.

6. Final Rule: Section 701.23 of NCUA's Rules and Regulations, Eligible Obligations.

Recess: 11 a.m.

Time and Date: 11:15 a.m., Thursday, November 15, 2007.

Place: Board Room, 7th Floor, Room 7047, 1775 Duke Street, Alexandria, VA 22314-3428.

Status: Closed.

Matters to be Considered:

1. One (1) Administrative Action under Sections 205, 207, and 208 of the Federal Credit Union Act. Closed pursuant to Exemptions (8), (9)(A)(ii), and (9)(B).

2. One (1) Administrative Action under Sections 206 and 208 of the Federal Credit Union Act. Closed pursuant to Exemptions (8), (9)(A)(ii), and (9)(B).

3. One (1) Personnel Matter. Closed pursuant to Exemptions (2).

FOR FURTHER INFORMATION CONTACT: Mary Rupp, Secretary of the Board, Telephone: 703-518-6304.

Mary Rupp,
Secretary of the Board.

[FR Doc. 07-5650 Filed 11-8-07; 3:11 pm]

BILLING CODE 7535-01-M